NATIONAL LABOR RELATIONS BOARD

Notice of Appointments of Individuals To Serve as Members of Performance Review Boards

AGENCY: National Labor Relations Board.

ACTION: Appointment of individuals to serve as performance review board members.

SUMMARY: The National Labor Relations Board is issuing this notice that the individuals whose names and position titles appear below have been appointed to serve as members of performance review boards in the National Labor Relations Board for the rating year beginning October 1, 2017 and ending September 30, 2018.

Name and Title

Elizabeth Tursell—Associate to the General Counsel, Division of Operations Management

Linda Dreeben—(Alternate)—Deputy Associate General Counsel, Division of Enforcement Litigation

Barbara O'Neill—Associate General Counsel, Division of Legal Counsel

John Ferguson—(Alternate) Associate General Counsel, Division of Enforcement Litigation

Kathleen A. Nixon—Deputy Chief Counsel to Member Pearce

Andrew Krafts—Deputy Chief Counsel to Member McFerran

Robert F. Schiff—Chief of Staff for Chairman Miscimarra

Gary W. Shinners (Alternate)—Executive Secretary

FOR FURTHER INFORMATION CONTACT: Gary Shinners, Executive Secretary, National Labor Relations Board, 1015 Half Street SE., Washington, DC 20570, (202) 273-3737 (this is not a toll-free number), 1-866-315-6572 (TTY/TDD).

Authority: 5 U.S.C. 4314(c)(4).

Dated: September 27, 2017.
Gary Shinners,
Executive Secretary.

[FR Doc. 2017-21127 Filed 9-29-17; 8:45 am]

BILLING CODE 7545-01-P